DEPARTMENT OF ENERGY

Federal Energy Regulatory Commission

Combined Notice of Filings

Take notice that the Commission has received the following Natural Gas Pipeline Rate and Refund Report filings:

Docket Numbers: RP21-982-000.

Applicants: Sierrita Gas Pipeline LLC.

Description: § 4(d) Rate Filing: LU and Fuel Update Filing to be effective 9/1/2021.

Filed Date: 7/29/21.

Accession Number: 20210729-5009.

Comments Due: 5 p.m. ET 8/10/21.

Docket Numbers: RP21-983-000.

Applicants: Ruby Pipeline, L.L.C.

Description: § 4(d) Rate Filing: FLU and EPC Update to be effective 9/1/2021.

Filed Date: 7/29/21.

Accession Number: 20210729-5010.

Comments Due: 5 p.m. ET 8/10/21.

Docket Numbers: RP21-984-000.

Applicants: Equitrans, L.P.

Description: § 4(d) Rate Filing: Negotiated Rate Service Agreements—Peoples Primary Point Changes to be effective 8/1/2021.

Filed Date: 7/29/21.

Accession Number: 20210729-5011.

Comments Due: 5 p.m. ET 8/10/21.

Docket Numbers: RP21-985-000.

Applicants: Equitrans, L.P.

Description: § 4(d) Rate Filing: Negotiated Rate Service Agreement—DTE Energy Trading—8/1/2021 to be effective 8/1/2021.

Filed Date: 7/29/21.

Accession Number: 20210729-5012.

Comments Due: 5 p.m. ET 8/10/21.

Docket Numbers: RP21-986-000.

Applicants: Granite State Gas Transmission, Inc.

Description: § 4(d) Rate Filing: A Limited Section 4 Rate Change to be effective 9/1/2021.

Filed Date: 7/29/21.

Accession Number: 20210729-5059

Comments Due: 5 p.m. ET 8/10/21.

Docket Numbers: RP21-987-000.

Applicants: Paiute Pipeline Company.

Description: § 4(d) Rate Filing: Gas Quality Specifications to be effective 8/30/2021.

Filed Date: 7/29/21.

Accession Number: 20210729-5060.

Comments Due: 5 p.m. ET 8/10/21.

Docket Numbers: RP21-988-000.

Applicants: Transcontinental Gas Pipe Line Company, LLC.

Description: Compliance filing Eastern Gas Transmission and Storage Inc GSS and LSS Flow Thru Refund to be effective N/A.

Filed Date: 7/29/21.

Accession Number: 20210729-5070.

Comments Due: 5 p.m. ET 8/10/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2021.
Debbie-Anne A. Reese,
Deputy Secretary.

[FR Doc. 2021-16721 Filed 8-4-21; 8:45 am]

BILLING CODE 6717-01-P